DEPARTMENT OF TRANSPORTATION

Federal Aviation Administration

14 CFR Part 39

[Docket No. 99-CE-72-AD; Amendment 39-11722; AD 2000-09-13]

RIN 2120-AA64

Airworthiness Directives; British Aerospace Jetstream Model 3201 Airplanes

AGENCY: Federal Aviation Administration, DOT.

ACTION: Final rule.

SUMMARY: This amendment adopts a new airworthiness directive (AD) that applies to British Aerospace Jetstream Model 3201 airplanes. This AD requires you to inspect the fuel quantity indication system for damage to the insulation of the wiring within the fuel tanks, and repair or replace damaged wiring. Damage is defined as corrosion (indicated by a dark stain), cuts, or nicks. This AD is the result of mandatory continuing airworthiness information (MCAI) issued by the airworthiness authority for the United Kingdom. The actions specified by this AD are intended to detect damage to the insulation of the wiring within the fuel tanks of the fuel quantity indication system, which could result in a malfunction in the cockpit indicators and/or electrical sparking inside the fuel tank with consequent fire or explosion.

DATES: This AD becomes effective on June 23, 2000.

The Director of the Federal Register approved the incorporation by reference of certain publications listed in the regulation as of June 23, 2000.

ADDRESSES: You may get the service information referenced in this AD from British Aerospace Regional Aircraft, Prestwick International Airport, Ayrshire, KA9 2RW, Scotland; telephone: (01292) 672345; facsimile: (01292) 671625. You may examine this information at Federal Aviation Administration (FAA), Central Region, Office of the Regional Counsel, Attention: Rules Docket No. 99-CE-72-AD, 901 Locust, Room 506, Kansas City, Missouri 64106; or at the Office of the Federal Register, 800 North Capitol Street, NW, suite 700, Washington, DC.

FOR FURTHER INFORMATION CONTACT: Mr. S.M. Nagarajan, Aerospace Engineer, FAA, Small Airplane Directorate, 901 Locust, Room 506, Kansas City, Missouri 64106; telephone: (816) 329-4145; facsimile: (816) 329-3091.

SUPPLEMENTARY INFORMATION:

Events Leading to the Issuance of This AD

What caused this AD? This AD is the result of damage to the insulation of the wiring within the wing fuel tanks of the fuel quantity indication system on two British Aerospace Jetstream Model 3201 airplanes. Further investigation shows that the damage to the insulation occurred during factory installation.

Has FAA taken any action to this point? We issued a proposal to amend part 39 of the Federal Aviation Regulations (14 CFR part 39) to include an AD that would apply to all British Aerospace Jetstream Model 3201 airplanes. This proposal was published in the Federal Register as a notice of proposed rulemaking (NPRM) on January 6, 2000 (65 FR 729). The NPRM proposed to require you to inspect the fuel quantity indication system for damage to the insulation of the wiring within the fuel tanks, with necessary repair or replacement of damaged wiring. Damage is defined as corrosion (indicated by a dark stain), cuts, or nicks.

The NPRM would require you to accomplish the proposed actions in accordance with British Aerospace Jetstream Alert Service Bulletin 28-A-JA990841, Original Issue: September 8, 1999; or British Aerospace Jetstream Alert Service Bulletin 28-A-JA990841, Original Issue: September 8, 1999; Revision No. 1: November 12, 1999.

Was the public invited to comment? The FAA offered interested persons the opportunity to participate in the making of this amendment. We have given due consideration to the one comment received.

Comment Disposition

What is the Commenter's Concern? The commenter requests that FAA extend the compliance time to 3 months instead of 100 hours time-in-service (TIS) or 60 calendar days, whichever occurs first. The commenter states that high usage Jetstream Model 3201 airplanes can accumulate 100 hours TIS in well under 30 days. The commenter's concern is that entities with large fleets of the affected airplanes may not be able to accomplish the proposed AD if not given at least a 30-day period.

What is FAA's Response to the Concern? We concur with extending the compliance time, but not to 3 months. We will maintain the 60 calendar days, and will increase the 100-hour TIS time to 200 hours TIS. This will give the high usage airplanes more than 30 days to accomplish the action and the low usage airplanes 60 days. British Aerospace issued the service information in September 1999 and specified compliance in October 1999. The change in the compliance time coincides with the service bulletin.

The FAA's Determination

What is FAA's final determination on this issue? After reviewing all available information related to the subject presented above, we have determined that air safety and the public interest require the adoption of the rule as proposed except for the change in the compliance time and minor editorial corrections.

How do these changes and corrections affect the AD? We have determined that the change and minor corrections will not change the meaning of the AD and will not add any additional burden upon the public than was already proposed.

Compliance Time of This AD

What is the compliance time of this AD? The compliance time of this AD is within the next 200 hours TIS or 60 calendar days, whichever occurs first.

Why is the compliance in both calendar time and hours TIS? The compliance time of this AD is presented in both calendar time and hours TIS. Damage to the insulation of the wires in the fuel quantity indicator system could result in corrosion in the core conductor. Corrosion damage can then develop regardless of whether the airplane is in flight, and may not develop until a later time. Therefore, in order to assure that any damage does not go undetected, we are utilizing a compliance time of both hours TIS and calendar time (the prevalent one being that which occurs first).

Cost Impact

How many airplanes does this AD impact? The FAA estimates that this AD affects 115 airplanes in the U.S. registry.

What is the cost impact of this action on owners/operators of the affected airplanes? We estimate that it would take approximately 60 workhours per airplane to accomplish this action, at an average labor rate of $60 an hour. Based on these figures, FAA estimates the cost impact of this AD on U.S. operators at $414,000, or $3,600 per airplane.

Regulatory Impact

The regulations adopted herein will not have a substantial direct effect on the States, on the relationship between the national government and the States, or on the distribution of power and responsibilities among the various levels of government. Therefore, it is determined that this final rule does not have federalism implications under Executive Order 13132.

The FAA has determined that this action:

(1) Is not a “significant regulatory action” under Executive Order 12866;

(2) Is not a “significant rule” under DOT Regulatory Policies and Procedures (44 FR 11034, February 26, 1979); and

(3) will not have a significant economic impact on a substantial number of small entities under the criteria of the Regulatory Flexibility Act.

A copy of the final evaluation prepared for this action is contained in the Rules. We have placed a copy of the final regulatory evaluation prepared for this action in the Rules Docket. You may obtain a copy of it at the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

2000-09-13 British Aerospace: Amendment 39-11722; Docket No. 99-CE-72-AD.

(a) What airplanes are affected by this AD? This AD applies to Jetstream Model 3201 airplanes, all serial numbers, certificated in any category.

(b) Who must comply with this AD? Anyone who wishes to operate any of the above airplanes on the U.S. Register must comply with this AD.

(c) What problem and safety aspects does this AD address? The actions specified by this AD are intended to detect damage to the insulation of the wiring within the fuel tanks of the fuel quantity indication system. If not detected and corrected, this damage could result in a malfunction in the cockpit indicators and/or electrical sparking inside the fuel tank with consequent fire or explosion.

(d) What actions must I accomplish to address this problem? To address this problem, you must accomplish the following:

Action | Compliance time | Procedures
Inspect the fuel quantity indication system for damage to the insulation of the wiring within the fuel tanks. Damage is defined as corrosion (indicated by a dark stain), cuts, or nicks | At whichever of the following that occurs first: —Within the next 200 hours time-in-service (TIS) after June 23, 2000 (the effective date of this AD); or —On or before August 21, 2000 (60 days after the effective date of this AD) | Accomplish these actions in accordance with one of the following: —British Aerospace Jetstream Alert Service Bulletin 28-A-JA990841, Original Issue: September 8, 1999; or —British Aerospace Jetstream Alert Service Bulletin 28-A-JA990841, Original Issue: September 8, 1999; Revision No. 1: November 12, 1999.
Replace or repair any damaged wiring | Prior to further flight after the inspection required by this AD | Accomplish in accordance with one of the previously referenced service bulletins.

(e) Can I comply with this AD in any other way?

(1) You may use an alternative method of compliance or adjust the compliance time if:

(i) Your alternative method of compliance provides an equivalent level of safety; and

(ii) The Manager, Small Airplane Directorate, approves your alternative. Submit your request through an FAA Principal Maintenance Inspector, who may add comments and then send it to the Manager.

(2) This AD applies to any airplane referenced in paragraph (a) of this AD, regardless of whether it has been modified, altered, or repaired in the area subject to the requirements of this AD. For those airplanes that have been modified, altered, or repaired so that the performance of the requirements of this AD is affected, the owner/operator must request approval for an alternative method of compliance in accordance with paragraph (e)(1) of this AD. The request should include an assessment of the effect of the modification, alteration, or repair on the unsafe condition addressed by this AD; and, if you have not eliminated the unsafe condition, specific actions you propose to address it.

(f) Where can I get information about any already-approved alternative methods of compliance? Contact the Small Airplane Directorate, 901 Locust, Room 301, Kansas City, Missouri 64106; telephone: (816) 329-4140; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) Who should I contact if I have questions regarding the service information? Direct all questions or technical information related to this AD to British Aerospace Regional Aircraft, Prestwick International Airport, Ayrshire, KA9 2RW, Scotland; telephone: (01292) 672345; facsimile: (01292) 671625.

(i) Are any service bulletins incorporated into this AD by reference? You must accomplish the actions required by this AD in accordance with British Aerospace Jetstream Alert Service Bulletin 28-A-JA990841, Original Issue: September 8, 1999; or British Aerospace Jetstream Alert Service Bulletin 28-A-JA990841, Original Issue: September 8, 1999; Revision No. 1: November 12, 1999. The Director of the Federal Register approved this incorporation by reference under 5 U.S.C. 552(a) and 1 CFR part 51. You can get copies from British Aerospace Regional Aircraft, Prestwick International Airport, Ayrshire, KA9 2RW, Scotland. You can look at copies at FAA, Central Region, Office of the Regional Counsel, 901 Locust, Room 506, Kansas City, Missouri, or at the Office of the Federal Register, 800 North Capitol Street, NW, suite 700, Washington, DC.

(j) Has another airworthiness authority addressed this action? The subject of this AD is addressed in British AD 003-09-99, dated September 13, 1999.

(k) When does this amendment become effective? This amendment becomes effective on June 23, 2000.

Issued in Kansas City, Missouri, on May 4, 2000.
Michael Gallagher,
Manager, Small Airplane Directorate, Aircraft Certification Service.

[FR Doc. 00-11718 Filed 5-12-00; 8:45 am]

BILLING CODE 4910-13-P